DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Information Program.

OMB Control Number: 0648-0052.

Form Number(s): NA.

Type of Request: Regular submission (revision of a current information collection).

Number of Respondents: 783,405 (37,060 net increase).

Average Hours per Response: Screener questionnaires, 5 minutes; angler questionnaires, 6 minutes for telephone survey, 10 minutes for mail survey.

Burden Hours: 53,494 hours (3,854 hours net increase).

Needs and Uses: This request is for a revision of a current information collection. Marine recreational anglers are surveyed for catch and effort data, fish biology data, and angler socioeconomic characteristics. These data are required to carry out provisions of the Magnuson-Stevens Fishery Conservation and Management Act (16 U.S.C. 1801 et seq.), as amended, regarding conservation and management of fishery resources.

Marine recreational fishing catch and effort data are currently collected through a combination of telephone surveys and on-site intercept surveys with recreational anglers. Recent amendments to the Magnuson-Stevens Fishery Conservation and Management Act (MSA) require the development of an improved data collection program for recreational fisheries. To meet the requirements of MSA, NOAA Fisheries is developing pilot studies to test alternative approaches for surveying recreational anglers. Studies will test the effectiveness of alternative sample frames and data collection methods for contacting anglers and collecting recreational fishing data. The goal of these studies is to develop more efficient and accurate methods for estimating marine recreational fishing catch and effort.

Affected Public: Individuals or households.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: September 21, 2011.
Gwellnar Banks,
Management Analyst, Office of the Chief Information Officer.

[FR Doc. 2011-24735 Filed 9-26-11; 8:45 am]

BILLING CODE 3510-22-P